COMMISSION ON CIVIL RIGHTS

Notice of Establishment and Solicitation of Nominations for U.S. Territory Advisory Committees

AGENCY: U.S. Commission on Civil Rights.

ACTION: Establishment of advisory committees in U.S. Virgin Islands, Puerto Rico, Northern Mariana Islands, Guam, and American Samoa and Request for Member Nominations.

SUMMARY: The U.S. Commission on Civil Rights (USCCR) is soliciting comments and recommendations regarding USCCR's intent to establish advisory committees in the U.S. Virgin Islands, Puerto Rico, Northern Mariana Islands, Guam, and American Samoa and is seeking nominations of qualified and bipartisan candidates who reside in these particular territories for consideration for appointment as voluntary Special Government Employees of these advisory committees. These advisory committees will operate as Federal Advisory Committees under the Federal Advisory Committee Act and under the USCCR's jurisdiction, policies, and procedures for its advisory committees.

DATES: Nominations for membership on the advisory committees should be received on or before June 30, 2021.

ADDRESSES: Written comments on the described intent to establish these U.S. Territory Advisory Committees and nominations to these committees must be submitted to:

1. Submission of comments on the intent to establish U.S. Territory Advisory Committees. Angelia Rorison, Director of Media and Communications, FOIA Public Liaison, U.S. Commission on Civil Rights, 1331 Pennsylvania Ave. NW, Suite 1150, Washington, DC 20425, ATTN: U.S. Territory Advisory Committees Establishment or via email at arorison@usccr.gov, SUBJECT: U.S. Territory Advisory Committees Establishment.

2. Submission of U.S. Territory Advisory Committee nominations for membership (Residence in territory nominated for is required). David Mussatt, Ph.D., Supervisory Chief of Regional Programs, U.S. Commission on Civil Rights, Kluczynski Federal Building, 230 S Dearborn St., Suite 2120, Chicago, IL 60604, ATTN: U.S. Territory Advisory Committee Nomination or via email at dmussatt@usccr.gov, SUBJECT: U.S. Territory Advisory Committee Nomination. Individuals who would like to self-nominated may apply directly at https://www.surveymonkey.com/r/S7WCLL6.

FOR FURTHER INFORMATION CONTACT: David Mussatt, Ph.D., Supervisory Chief of Regional Programs, U.S. Commission on Civil Rights, Kluczynski Federal Building, 230 S Dearborn St., Suite 2120, Chicago, IL 60604 or (312) 353-8311.

SUPPLEMENTARY INFORMATION: The USCCR authorizing statute, 42 U.S.C. 1975a, provides the authority for the Commission to establish advisory committees. USCCR Advisory Committees provide independent advice and recommendations to the USCCR about civil rights matters within each committee's particular geographical jurisdiction. The Committees are composed of bipartisan volunteers who reside within the geographical jurisdiction for the particular committee and diverse viewpoints and experiences. They all have demonstrated interest and experience in civil rights. Each committee will hold at least four meetings per calendar year, or at the discretion of the committee Chair and Designated Federal Officer. These meetings may be held in-person or virtually.

Nominations: USCCR is requesting nominations to each of the five U.S. Territory advisory committees. The committees may be composed of eight to 15 members, and they must be bipartisan and reflect a diversity of viewpoints and experiences. The Commission will appoint the members of each committee to a four-year term. The Commission will also appoint the Chair of each committee. Interested applicants may self-nominate or be nominated by another individual or organization. Self-nominations may apply directly at https://www.surveymonkey.com/r/S7WCLL6.

USCCR endeavors to ensure that the membership of the U.S. Territory advisory committees is fairly balanced in terms of political membership, points of view represented, and that individuals from a broad representation of gender, and ethnic and minority groups, as well as individuals with disabilities, are considered for membership. Appointments shall be made without discrimination on the basis of age, ethnicity, gender, sexual orientation, or cultural, religious, or socioeconomic status.

Dated: April 29, 2021.
David Mussatt,
Supervisory Chief, Regional Programs Unit.

[FR Doc. 2021-09391 Filed 5-3-21; 8:45 am]

BILLING CODE P